DEPARTMENT OF COMMERCE

National Oceanic and Atmospheric Administration

[RTID 0648-XA012]

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Southern Resident Killer Whale Workgroup (Workgroup) will host a webinar, which is open to the public.

DATES: The webinar meeting will be held on Thursday, February 6, 2020 from 1 p.m. until 4 p.m., Pacific Standard Time. The webinar time is an estimate; the meeting will adjourn when business for the day is completed.

ADDRESSES: The meeting will be held via webinar. A public listening station is available at the Pacific Council office (address below). To attend the webinar (1) join the webinar by visiting this link https://www.gotomeeting.com/webinar (click “Join a Webinar” in top right corner of page), (2) enter the Webinar ID: 436-917-795, and (3) enter your name and email address (required). After logging in to the webinar, please (1) dial this TOLL number 1-631-992-3221 (not a toll-free number), (2) enter the attendee phone audio access code 432-465-880, and (3) enter the provided audio PIN after joining the webinar. You must enter this PIN for audio access. Note: We have disabled Mic/Speakers as an option and require all participants to use a telephone or cell phone to participate. Technical Information and system requirements: PC-based attendees are required to use Windows® 10, 8, Vista, or XP; Mac®-based attendees are required to use Mac OS® X 10.5 or newer; Mobile attendees are required to use iPhone®, iPad®, Android™ phone or Android tablet (See https://www.gotomeeting.com/webinar/ipad-iphone-android-webinar-apps.) You may send an email to Mr. Kris Kleinschmidt at Kris.Kleinschmidt@noaa.gov or contact him at (503) 820-2280, extension 412 for technical assistance.

Council address: Pacific Fishery Management Council, 7700 NE Ambassador Place, Suite 101, Portland, OR 97220.

FOR FURTHER INFORMATION CONTACT: Ms. Robin Ehlke, Pacific Council; telephone: (503) 820-2410.

SUPPLEMENTARY INFORMATION: The purpose of the webinar will be to discuss data needs, analysis, document development, work plans, and progress made on assigned tasks, including the risk analysis. The Workgroup may also discuss and prepare for future Workgroup meetings and future meetings with the Pacific Council and its advisory bodies.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2412, at least 10 business days prior to the meeting date.

Dated: January 17, 2020.
Tracey L. Thompson,
Acting Deputy Director, Office of Sustainable Fisheries, National Marine Fisheries Service.

[FR Doc. 2020-01085 Filed 1-22-20; 8:45 am]

BILLING CODE 3510-22-P